TENNESSEE VALLEY AUTHORITY

Charter Renewal of the Regional Resource Stewardship Council

AGENCY: Tennessee Valley Authority (TVA).

ACTION: Renewal of federal advisory committee.

SUMMARY: Pursuant to the Federal Advisory Committee Act (FACA), the TVA Board of Directors has renewed the Regional Resource Stewardship Council (RRSC) charter for an additional two-year period.

For Further Information Contact: Ashley Farless, arfarless@tva.gov, (423) 443-7169.

Supplementary Information: Pursuant to FACA and its implementing regulations, and following consultation with the Committee Management Secretariat, General Services Administration (GSA) in accordance with 41 CFR 102-3.60(a), notice is hereby given that the RRSC has been renewed for a two-year period. The RRSC will provide advice to TVA on its issues affecting natural resources and stewardship activities. The RRSC was originally established in 2000 to advise TVA on its natural resources and stewardship activities and the priority to be placed among competing objectives and values. It has been determined that the RRSC continues to be needed to provide an additional mechanism for public input regarding natural resources and stewardship issues. The charter can be found at www.tva.com/rrsc.

Dated: April 11, 2022.

The DFO of the Tennessee Valley Authority and Vice President of External Strategy & Regulatory Affairs, Melanie Farrell, having reviewed and approved this document, is delegating the authority to sign this document to Cathy Coffey, Senior Program Manager of Public and Community Engagement for purposes of publication in the Federal Register.

Cathy Coffey,
Senior Program Manager, Tennessee Valley Authority.

[FR Doc. 2022-08271 Filed 4-15-22; 8:45 am]

BILLING CODE 8120-08-P